DEPARTMENT OF ENERGY

Federal Energy Regulatory Commission

[Project No. 2088-075]

South Feather Water and Power Agency; Notice of Availability of Environmental Assessment

May 20, 2010.

In accordance with the National Environmental Policy Act of 1969, as amended, and the Federal Energy Regulatory Commission's (Commission) regulations, (18 CFR Part 380), Commission staff has prepared an environmental assessment (EA) regarding South Feather Water and Power Agency's (SFWPA) request to raise the dam crest and modify the spillway at Sly Creek Dam, part of the Sly Creek development of the South Feather Power Project (FERC No. 2088). Sly Creek is located on Sly Creek Reservoir, which receives water from Lost Creek, and the Slate Creek and South Fork Feather River diversion tunnels in Butte, Yuba and Plumas counties, California.

SFWPA's Proposed Action includes: (1) Raising Sly Creek Dam approximately 10 feet through the use of mechanically stabilized earth walls constructed from approximately 20,000 cubic yards of fill from an onsite borrow area; (2) modifying the spillway crest structure; (3) replacing the spill gate; and (4) altering roadway approaches to the Sly Creek Dam crest and re-paving the road to improve drainage conditions in the adjacent campground and borrow site.

The EA contains Commission staff's analysis of the potential environmental effects of the Proposed Action and concludes that the Proposed Action, with the implementation of environmental protective measures, would not constitute a major federal action significantly affecting the quality of the human environment.

A copy of the EA is available for review at the Commission's Public Reference Room, or it may be viewed on the Commission's Web site at http://www.ferc.gov using the “eLibrary” link. Enter the docket number (P-2088) in the docket number field to access the document. Additional information about the project is available from the Commission's Web site using the eLibrary link. For assistance with eLibrary, contact FERCOnlineSupport@ferc.gov or toll-free at (866) 208-3676; for TTY, contact (202) 502-8659.

Kimberly D. Bose,
Secretary.

[FR Doc. 2010-12858 Filed 5-27-10; 8:45 am]

BILLING CODE 6717-01-P